DEPARTMENT OF HOMELAND SECURITY

Coast Guard

33 CFR Part 165

[Docket No. USCG-2016-0382]

Safety Zones; Recurring Events in Captain of the Port Boston Zone

AGENCY: Coast Guard, DHS.

ACTION: Notice of enforcement of regulation.

SUMMARY: The Coast Guard will enforce the safety zones in the Captain of the Port Boston Zone on the specified dates and times listed below. This action is necessary to ensure the protection of the maritime public and event participants from the hazards associated with this annual recurring event. Under the provisions of our regulations, no person or vessel, except for the safety vessels assisting with the event may enter the safety zones unless given permission from the COTP or the designated on-scene representative. The Coast Guard may be assisted by other Federal, State, or local law enforcement agencies in enforcing this regulation.

DATES: The regulations in 33 CFR 165.118 will be enforced for the safety zones identified in the SUPPLEMENTARY INFORMATION section below for the dates and times specified.

FOR FURTHER INFORMATION CONTACT: If you have questions about this notice of enforcement, call or email Mr. Mark Cutter, Coast Guard Sector Boston Waterways Management Division, telephone 617-223-4000, email Mark.E.Cutter@uscg.mil.

SUPPLEMENTARY INFORMATION: The Coast Guard will enforce the safety zones listed in 33 CFR 165.118 on the specified dates and times as indicated in Table 1 below. This regulation was published in the Federal Register on November 8, 2013 (78 FR 67028).

Table 1
6.3 Surfside Fireworks | • Event Type: Fireworks Display. • Sponsor: Salisbury Beach Partnership and Chamber of Commerce. • Date: Every Saturday from June 25, 2016 through September 3, 2016. • Time: 9:00 p.m. to 11:00 p.m. • Location: All waters of the Atlantic Ocean near Salisbury Beach, MA, within a 350-yard radius of the fireworks barge located at position 42°50.6′ N., 070°48.4′ W. (NAD 83).
6.4 Cohasset Triathlon | • Event Type: Swim. • Sponsor: Streamline Events. • Date: June 26, 2016. • Time: 7:00 a.m. to 9:00 a.m.
| • Location: All waters in the vicinity of Cohasset Harbor around Sandy Beach, within the following points (NAD 83): 42°15.6′ N., 070°48.1′ W. 42°15.5′ N., 070°48.1′ W. 42°15.4′ N., 070°47.9′ W. 42°15.4′ N., 070°47.8′ W.
6.5 Hull Youth Football Carnival Fireworks | • Event Type: Fireworks Display. • Sponsor: Hull Youth Football. • Date: June 18, 2016. • Time: 9:30 p.m. to 10:30 p.m. • Location: All waters within a 450-foot radius of the fireworks barge located approximately 500 feet of off Nantasket Beach, Hull MA located at position 42°16.6′ N., 070°51.7′ W. (NAD 83).
7.18 Charles River 1-Mile Swim | • Event Type: Swim. • Sponsor: Charles River Swimming Club, Inc. • Date: June 11th, 2016. • Time: 7:30 a.m. to 9:30 a.m.
| Location: All waters of Charles River between the Longfellow Bridge and the Harvard Bridge within the following points (NAD 83): 42°21.7′ N., 071°04.8′ W. 42°21.7′ N., 071°04.3′ W. 42°22.2′ N., 071°07.3′ W. 42°22.1′ N., 070°07.4′ W.

This notice is issued under authority of 33 CFR 165.118 and 5 U.S.C. 552 (a). In addition to this notice in the Federal Register, the Coast Guard will provide notification of these enforcement periods via the Local Notice to Mariners and Broadcast Notice to Mariners.

Dated: June 10, 2016.
C.C. Gelzer,
Captain, U.S. Coast Guard, Captain of the Port Boston.

[FR Doc. 2016-14783 Filed 6-23-16; 8:45 am]

BILLING CODE 9110-04-P